EXPORT-IMPORT BANK OF THE UNITED STATES

Economic Impact Policy

This notice is to inform the public that the Export-Import Bank of the United States has received an application to finance the export of approximately $50 million in U.S. equipment and services to a soda ash production facility in Turkey. The U.S. exports will enable the soda ash plant to produce from natural resources (e.g., trona) approximately 1,000,000 metric tons of soda ash per year and 100,000 metric tons of sodium bicarbonate per year. Initial production is expected to commence in the latter part of 2006. Available information indicates that this new production will be consumed throughout the Middle East, in Africa, in South Asia and in Greece and Italy. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. 04-16311 Filed 7-16-04; 8:45 am]

BILLING CODE 6690-01-P